DEPARTMENT OF THE INTERIOR

Bureau of Reclamation

Status Report of Water Service, Repayment, and Other Water-Related Contract Actions

AGENCY: Bureau of Reclamation, Interior.

ACTION: Notice.

SUMMARY: Notice is hereby given of contractual actions that have been proposed to the Bureau of Reclamation and are new, modified, discontinued, or completed since the last publication of this notice on September 29, 2011. From the date of this publication, future notices during this calendar year will be limited to new, modified, discontinued, or completed contract actions. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone (303) 445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in This Document

ARRA—American Recovery and Reinvestment Act of 2009

BCP—Boulder Canyon Project

Reclamation—Bureau of Reclamation

CAP—Central Arizona Project

CVP—Central Valley Project

CRSP—Colorado River Storage Project

FR—Federal Register

IDD—Irrigation and Drainage District

ID—Irrigation District

LCWSP—Lower Colorado Water Supply Project

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

USACE—U.S. Army Corps of Engineers

WD—Water District

Pacific Northwest Region: Bureau of Reclamation, 1150 North Curtis Road, Suite 100, Boise, Idaho 83706-1234, telephone (208) 378-5344.

New Contract Actions

20. Benton ID, Yakima Project, Washington: Amendatory contract to, among other things, withdraw the District from the Sunnyside Division Board of Control; provide for direct payment of the District's share of total operation, maintenance, repair, and replacement costs incurred by the United States in operation of storage division; and establish District responsibility for operation, maintenance, repair and replacement for irrigation distribution system.

21. Junction City Water Control District, Willamette River Basin Project, Oregon: Irrigation water service contract for approximately 8,000 acre-feet of Project water.

Completed Contract Actions

5. Palmer Creek Water District Improvement Company, Willamette River Basin Project, Oregon: Irrigation water service contract for approximately 13,000 acre-feet. Contract executed September 9, 2011.

11. State of Washington, Columbia Basin Project, Washington: Long-term contract for up to 25,000 acre-feet of project water to substitute for State-issued permits for M&I purposes with an additional 12,500 acre-feet of project water to be made available to benefit stream flows and fish in the Columbia River under this contract or a separate operating agreement. Contract executed August 2, 2011.

Mid-Pacific Region: Bureau of Reclamation, 2800 Cottage Way, Sacramento, California 95825-1898, telephone (916) 978-5250.

New Contract Actions

55. Sacramento River Division, CVP, California: Administrative assignments of various Sacramento River Settlement Contracts.

56. Conaway Preservation Group, LLC, Sacramento River Division, CVP, California: Proposed assignment of 10,000 acre-feet of water under an existing Sacramento River Settlement Contract.

57. California Department of Fish and Game, CVP, California: To extend the term of and amend the existing water service contract for the Department's San Joaquin Fish Hatchery to allow an increase from 35 cubic feet per second to 60 cubic feet per second of continuous flow to pass through the Hatchery prior to it returning to the San Joaquin River.

Lower Colorado Region: Bureau of Reclamation, P.O. Box 61470 (Nevada Highway and Park Street), Boulder City, Nevada 89006-1470, telephone (702) 293-8192.

New Contract Actions

19. Alderwoods (Arizona), Inc. and the City of Phoenix, CAP, Arizona: Proposed assignment of 84 acre-feet per year of CAP M&I water from Alderwoods (Arizona), Inc. to the City of Phoenix.

20. Fort McDowell Yavapai Nation and the Town of Gilbert, CAP, Arizona: Execute a Lease Amendment No. 1 to extend the 1-year lease that was executed December 14, 2010, for the delivery of up to 13,683 acre-feet of CAP water from the Nation to Gilbert, for another year.

Completed Contract Actions

4. White Mountain Apache Tribe, Miner Flat Project, Arizona: Execution of a contract to repay any amounts loaned to the Tribe pursuant to Section 3 of Pub. L. 110-390. Contract executed September 9, 2011.

15. Arizona Water Company (Superstition System), CAP, Arizona: Proposed transfer of Town of Superior's 285 acre-feet and proposed Amendment No. 1 to Arizona Water Company's subcontract to allow for the annual delivery of up to 6,285 acre-feet (6,000 acre-feet prior and 285 transferred) of CAP water for M&I purposes within its Superstition System. Contract executed September 12, 2011.

Upper Colorado Region: Bureau of Reclamation, 125 South State Street, Room 6107, Salt Lake City, Utah 84138-1102, telephone (801) 524-3864.

The Upper Colorado Region has no updates to report for this quarter.

Great Plains Region: Bureau of Reclamation, P.O. Box 36900, Federal Building, 316 North 26th Street, Billings, Montana 59101, telephone (406) 247-7752.

New Contract Actions

52. City of Loveland, Colorado-Big Thompson Project, Colorado: Consideration of amendment to Contract No. 01WR6C0252, Article 5, regarding crediting excess capacity service charge.

53. Town of Berthoud, Colorado-Big Thompson Project, Colorado: Consideration of amendment to Contract No. 06XX6C0122, Article 5, regarding crediting of excess capacity service charge.

54. City of Rifle, Ruedi Reservoir, Fryingpan-Arkansas Project, Colorado: Consideration of a repayment contract for 200 acre-feet of water.

55. Huntley Project ID, Huntley Project, Montana: Consideration of a supplemental contract for repayment of extraordinary maintenance work on the main canal, in accordance with Section 9603 of Public Law 111-11.

Completed Contract Actions

31. Individual irrigators, Cambridge Unit, Frenchman-Cambridge Division, P-SMBP, Nebraska: Consideration of a request for a long-term excess capacity conveyance contract for transporting nonproject irrigation water. Contract executed September 22, 2011.

39. Frenchman-Cambridge ID, P-SMBP, Nebraska: Proposed contract for SOD repairs to Red Willow Dam. Contract executed September 14, 2011.

44. Frenchman-Cambridge ID, P-SMBP, Nebraska: Consideration of a request to amend the repayment contract to change the irrigation season start date from May 1 to April 15. Contract executed August 9, 2011.

51. Kensington Partners, Green Mountain Reservoir, Colorado-Big Thompson Project, Colorado: Consideration of an amendment to the existing contract to reduce the amount of water service by 225 acre-feet of municipal/domestic water and assign the water to the Upper Eagle Regional Water Authority. Contract executed September 2, 2011.

Modified Contract Action

46. Tom Green County Water Control and Improvement District No. 1, San Angelo Project, Texas: Consideration to amend Contract No. 14-06-500-369 to change the irrigation season definition to year-round usage and recognize agreements between the City of San Angelo and the District for putting treated wastewater to beneficial use in accordance with the State of Texas requirements for wastewater re-use.

Dated: October 18, 2011.
Roseann Gonzales,
Director, Policy and Administration.

[FR Doc. 2011-30645 Filed 11-28-11; 8:45 am]

BILLING CODE 4310-MN-P